DEPARTMENT OF TRANSPORTATION

Federal Railroad Administration

[Docket Number FRA-2013-0020]

Petition for Waiver of Compliance

In accordance with part 211 of Title 49 Code of Federal Regulations (CFR), this document provides the public notice that by a document dated February 4, 2013, GE Transportation (GE) has petitioned the Federal Railroad Administration (FRA) for a waiver of compliance from certain provisions of the Federal railroad safety regulations contained at 49 CFR Part 232—Brake System Safety Standards for Freight and Other Non-Passenger Trains and Equipment; End-of-Train Devices. FRA assigned the petition Docket Number FRA-2013-0020.

Specifically, GE requests relief from 49 CFR 232.409(d), Inspection and testing of end-of-train devices, as applied to its STR-1821 dual receive data transceivers. The current rule requires telemetry equipment to be tested for accuracy and calibrated, if necessary, at least every 368 days. The date and location of the last calibration or test, as well as the name of the person performing the calibration or test, must be legibly displayed on a weather-resistant sticker or other marking device affixed to the outside of both the front and rear of the unit.

In its petition, GE states that the STR-1821 radio is the type accepted by the Federal Communications Commission under a Grant of Equipment Authorization with identifier OQW-STR1820. Prior to shipment, each STR-1821 is tested by its supplier, Summation Research, Inc. (SRI), to specifications including frequency and modulation. SRI then affixes a sticker that indicates the date the unit passed testing. These transceivers use a master reference oscillator to determine the frequency stability of the transmitted signal. The actual transmitted signal is phase-locked to this master oscillator by the phase-locked loop (PLL). Circuitry within the PLL determines when the system is in “lock” and will prevent or inhibit transmission if the transmitted signal is not in frequency. The master oscillator itself is specified to a much higher stability than the resulting transmitted frequency required by Federal regulations. This oscillator is used in all of SRI's mobile data radio offerings and, to date, has never failed due to being out of tolerance. GE states that, due to the transceiver's development history, key features, and proven performance, approval of this waiver request to eliminate annual calibration will be in the public interest and consistent with public safety.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by January 13, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2013-28686 Filed 11-27-13; 8:45 am]

BILLING CODE 4910-06-P